NUCLEAR REGULATORY COMMISSION

[Docket No. 50-410]

Nine Mile Point Nuclear Station, LLC; Notice of Withdrawal of Application for; Amendment to Facility Operating License

The U.S. Nuclear Regulatory Commission (the Commission) has granted the request of Nine Mile Point Nuclear Station, LLC (the licensee) to withdraw its application dated August 11, 2006, for a proposed amendment to Renewed Facility Operating License No. NPF-69 for the Nine Mile Point Nuclear Station, Unit No. 2, located in Oswego County, New York.

The proposed amendment would have modified Technical Specification 3.3.2.1, “Control Rod Block Instrumentation,” to change the number of startups allowed with the rod worth minimizer inoperable from one per calendar year to two per operating cycle.

The Commission had previously issued a Notice of Consideration of Issuance of Amendment published in the Federal Register on September 26, 2006 (71 FR 56192). However, by letter dated July 17, 2007, the licensee withdrew the proposed change.

For further details with respect to this action, see the application for amendment dated August 11, 2006, and the licensee's letter dated July 17, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 30th day of July 2007.
For the Nuclear Regulatory Commission.
Douglas V. Pickett,
Project Manager, Plant Licensing Branch I-1, Division of Operating Reactor Licensing, Office of Nuclear Reactor Regulation.

[FR Doc. E7-15460 Filed 8-7-07; 8:45 am]

BILLING CODE 7590-01-P